DEPARTMENT OF COMMERCE

Foreign-Trade Zones Board

[B-17-2023]

Foreign-Trade Zone (FTZ) 124, Notification of Proposed Production Activity; Valero Refining-New Orleans, LLC; (Renewable Fuels and By-Products); Norco, Louisiana

Valero Refining-New Orleans, L.L.C. submitted a notification of proposed production activity to the FTZ Board (the Board) for its facility in Norco, Louisiana within Subzone 124A. The notification conforming to the requirements of the Board's regulations (15 CFR 400.22) was received on February 28, 2023.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz. The proposed finished product(s) and material(s)/component(s) would be added to the production authority that the Board previously approved for the operation, as reflected on the Board's website.

The proposed finished products include renewable fuels (naphtha; diesel; jet), sustainable jet fuel, propane and butane mix, mixed gas streams, and hydrogen sulfide (duty rate ranges from duty-free to 10.5¢/bbl).

The proposed foreign-status materials and components include: fats (animal; fish); oils (fish; canola; rapeseed; distiller's corn; used cooking); and, yellow grease, a mix of animal fats that may include used cooking oil) (duty rate ranges from duty-free to 8.0%, 0.43¢/kg to 3¢/kg, 1.57¢/kg+5%). The request indicates that certain materials/components are subject to duties under section 301 of the Trade Act of 1974 (section 301), depending on the country of origin. The applicable section 301 decisions require subject merchandise to be admitted to FTZs in privileged foreign status (19 CFR 146.41).

Public comment is invited from interested parties. Submissions shall be addressed to the Board's Executive Secretary and sent to: ftz@trade.gov. The closing period for their receipt is April 18, 2023.

A copy of the notification will be available for public inspection in the “Online FTZ Information System” section of the Board's website.

For further information, contact Juanita Chen at juanita.chen@trade.gov.

Dated: March 3, 2023.
Elizabeth Whiteman,
Acting Executive Secretary.

[FR Doc. 2023-04849 Filed 3-8-23; 8:45 am]

BILLING CODE 3510-DS-P